DEPARTMENT OF COMMERCE

Bureau of Industry and Security

15 CFR Parts 742, 743, and 774

[Docket No. 241204-0310]

RIN 0694-AJ60

Commerce Control List Additions and Revisions; Implementation of Controls on Advanced Technologies Consistent With Controls Implemented by International Partners; Correction

AGENCY: Bureau of Industry and Security, Department of Commerce.

ACTION: Correcting amendment.

SUMMARY: On September 6, 2024, BIS published in the Federal Register an interim final rule entitled “Commerce Control List Additions and Revisions; Implementation of Controls on Advanced Technologies Consistent with Controls Implemented by International Partners” (RIN 0694-AJ60) that contained inadvertent errors. This rule corrects those errors.

DATES: This rule is effective December 27, 2024.

FOR FURTHER INFORMATION CONTACT:

For general questions contact: Sharron Cook at 202-482-2440 or RPD2@bis.doc.gov.

For technical questions contact:

Category 2: Sean Ghannadian at 202-482-3429 or Sean.Ghannadian@bis.doc.gov.

Category 3: Carlos Monroy at 202-482-3246 or Carlos.Monroy@bis.doc.gov.

Category 4: Aaron Amundson at 202-482-0707 or Aaron.Amundson@bis.doc.gov.

SUPPLEMENTARY INFORMATION:

Background

On September 6, 2024, BIS published in the Federal Register the interim final rule “Commerce Control List Additions and Revisions; Implementation of Controls on Advanced Technologies Consistent with Controls Implemented by International Partners” (RIN 0694-AJ60) (89 FR 72926). That rule contained inadvertent errors in §§ 742.4, 742.6, and 743.7 of the Export Administration Regulations (15 CFR parts 730 through 774) (EAR) and in Export Control Classification Numbers (ECCNs) 2B910 and 3C908 of the Commerce Control List (CCL) in supplement no. 1 to part 774 of the EAR.

Corrections

In column 1 of 89 FR 72938, under the section heading “§ 742.4 National security,” there is an incorrect citation. This rule amends the regulatory text in § 742.4(a)(5)(ii)(A) by replacing the reference to “general order no. 4” with “general order no. 6.”

In columns 1 and 2 of 89 FR 72938, also under the section heading “§ 742.4 National security,” the paragraph designations in § 742.4 are incorrect. This rule revises paragraph (a)(5)(ii)(B)(1) to clarify the reference to quantum items eligible for the deemed export and deemed reexport exclusion by breaking the “technology” parenthetical referencing ECCNs 4D906 and 4E906 into separate list entries for ECCN 4D906 and ECCN 4E906.

In column 3 of 89 FR 72938, under the section heading “§ 742.6 Regional stability,” there is an incorrect citation in § 742.6(a)(10)(ii)(A). This rule amends § 742.6(a)(10)(ii)(A) by replacing the reference to “general order no. 4” with “general order no. 6.”

In column 2 of 89 FR 72939, under the part heading “Part 743—Special Reporting and Notification”, the paragraph designations in § 743.7 are incorrect. This rule amends § 743.7 by redesignating paragraphs (c)(1)(A) through (C) as paragraphs (c)(1)(i) through (iii), and redesignating paragraphs (c)(2)(A) through (D) as paragraphs (c)(2)(i) through (iv).

In column 2 of 89 FR 72940, in the CCL of the EAR, ECCN 2B910.d contains an error. This rule corrects ECCN 2B910.d by replacing the citation to 2B010.c with 2B910.c.

In column 1 of 89 FR 72951, in the CCL of the EAR, the license requirement table in ECCN 3C908 contains inadvertent errors (i.e., the duplication of the Regional Stability (RS) license requirement paragraph and omission of an Anti-terrorism (AT) license requirement paragraph). This rule corrects ECCN 3C908 by removing the duplicate RS license requirement paragraph and adding the missing AT license requirement paragraph.

Export Control Reform Act of 2018

On August 13, 2018, the President signed into law the John S. McCain National Defense Authorization Act for Fiscal Year 2019, which included the Export Control Reform Act of 2018 (ECRA) (codified, as amended, at 50 U.S.C. 4801-4852). ECRA provides the legal basis for BIS's principal authorities and serves as the authority under which BIS issues this rule. In particular, Section 1753 of ECRA (50 U.S.C. 4812) authorizes the regulation of exports, reexports, and transfers (in-country) of items subject to U.S. jurisdiction. Further, Section 1754(a)(1)-(16) of ECRA (50 U.S.C. 4813(a)(1)-(16)) authorizes, inter alia, the establishment of a list of controlled items; the prohibition of unauthorized exports, reexports, and transfers (in-country); the requirement of licenses or other authorizations for exports, reexports, and transfers (in-country) of controlled items; apprising the public of changes in policy, regulations, and procedures; and any other action necessary to carry out ECRA that is not otherwise prohibited by law. Pursuant to section 1762(a) of ECRA (50 U.S.C. 4821(a)), these changes can be imposed in a final rule without prior notice and comment. The revisions, including the addition of the missing AT license requirement paragraph to ECCN 3C908, made through this rulemaking fall within the authorizations conferred by ECRA as described above.

Rulemaking Requirements

1. This correction has not been designated a “significant regulatory action” under section 3(f) of Executive Order 12866, as amended by Executive Order 14094.

2. Notwithstanding any other provision of law, no person is required to respond to, nor shall any person be subject to a penalty for failure to comply with, a collection of information subject to the requirements of the Paperwork Reduction Act of 1995 (PRA) (44 U.S.C. 3501-3521), unless that collection of information displays a currently valid Office of Management and Budget (OMB) Control Number. This rule involves collections currently approved by OMB under the following control numbers:

• 0694-0088, “Simplified Network Application Processing System,” which carries a burden-hour estimate of 29.6 minutes for a manual or electronic submission;

• 0694-0137 “License Exceptions and Exclusions,” which carries a burden-hour estimate average of 1.5 hours per submission (Note: submissions for License Exceptions are rarely required);

• 0694-0096 “Five Year Records Retention Period,” which carries a burden-hour estimate of less than 1 minute; and

• 0607-0152 “Automated Export System (AES) Program,” which carries a burden-hour estimate of 3 minutes per electronic submission.

Additional information regarding these collections of information—including all background materials—can be found at: https://www.reginfo.gov/public/do/PRAMain and using the search function to enter either the title of the collection or the OMB Control Number.

3. This rule does not contain policies with federalism implications as that term is defined in Executive Order 13132.

4. Pursuant to section 1762 of ECRA (50 U.S.C. 4821), this action is exempt from the Administrative Procedure Act (APA) (5 U.S.C. 553) requirements for notice of proposed rulemaking, opportunity for public participation and delay in effective date. While Section 1762 of ECRA provides sufficient authority for such an exemption, this action is also independently exempt from these APA requirements because it involves a military or foreign affairs function of the United States (5 U.S.C. 553(a)(1)).

5. Because a notice of proposed rulemaking and an opportunity for public comment are not required to be given for this rule by 5 U.S.C. 553, or by any other law, the analytical requirements of the Regulatory Flexibility Act (5 U.S.C. 601, et seq.) are not applicable. Accordingly, no regulatory flexibility analysis is required, and none has been prepared.

List of Subjects

15 CFR Part 742

Exports, Terrorism.

15 CFR Part 743

Administrative practice and procedure, Exports, Reporting and recordkeeping.

15 CFR Part 774

Exports, Reporting and recordkeeping requirements.

Accordingly, parts 742, 743, and 774 of the EAR (15 CFR parts 730 through 774) are corrected by making the following correcting amendments:

PART 742—CONTROL POLICY—CCL BASED CONTROLS

1. The authority citation for part 742 continues to read as follows:

Authority: 50 U.S.C. 4801-4852; 50 U.S.C. 4601 et seq.; 50 U.S.C. 1701 et seq.; 22 U.S.C. 3201 et seq.; 42 U.S.C. 2139a; 22 U.S.C. 7201 et seq.; 22 U.S.C. 7210; Sec. 1503, Pub. L. 108-11, 117 Stat. 559; E.O. 12058, 43 FR 20947, 3 CFR, 1978 Comp., p. 179; E.O. 12851, 58 FR 33181, 3 CFR, 1993 Comp., p. 608; E.O. 12938, 59 FR 59099, 3 CFR, 1994 Comp., p. 950; E.O. 13026, 61 FR 58767, 3 CFR, 1996 Comp., p. 228; E.O. 13222, 66 FR 44025, 3 CFR, 2001 Comp., p. 783; Presidential Determination 2003-23, 68 FR 26459, 3 CFR, 2004 Comp., p. 320; Notice of November 1, 2023, 88 FR 75475 (November 3, 2023).

2. Section 742.4 is amended by:

a. Removing the phase “general order no. 4” and adding in its place “general order no. 6” in paragraph (a)(5)(ii)(A); and

b. Revising paragraph (a)(5)(ii)(B)(1).

The revision reads as follows:

§ 742.4 National security.

* * * * *

(a) * * *

(5) * * *

(ii) * * *

(B) * * *

(1) Limited exclusion. There is a limited deemed export or deemed reexport exclusion from the license requirements in paragraph (a)(5)(i) of this section for the following “software” or “technology” ECCNs unless for foreign persons whose most recent citizenship or permanent residency is a destination specified in Country Group D:1 or D:5: ECCNs 2D910; 2E910; 3D001 (“software” for “EUV” masks and reticles in ECCN 3B001.q); 3D901 (for “software” for quantum items in ECCNs 3A901.b and 3B904 and for scanning electron microscopes (SEM) in ECCN 3B903); 3D907 “software” designed to extract “GDSII” or equivalent data; 3E001 (“technology” for “EUV” masks and reticles in ECCN 3B001.q); and 3E901 (for “technology” for quantum items in 3A901, 3A904, 3B904, 3C907, 3C908, and 3C909, and for SEMs in ECCN 3B903); 3E905 (“technology” according to the General Technology Note for the “development” or “production” of integrated circuits or devices, using “Gate all-around Field-Effect Transistor” (“GAAFET”) structures); 4D906 “software” (for quantum items in 4A906), and 4E906 “technology” (for quantum items in ECCNs 4A906 or 4D906).

* * * * *

§ 742.6 [Amended]

3. Section 742.6 is amended by removing the phase “general order no. 4” and adding in its place “general order no. 6” in paragraph (a)(10)(ii)(A).

PART 743—SPECIAL REPORTING AND NOTIFICATION

4. The authority citation for part 743 continues to read as follows:

Authority: 50 U.S.C. 4801-4852; 50 U.S.C. 4601 et seq.; 50 U.S.C. 1701 et seq.; E.O. 13222, 66 FR 44025, 3 CFR, 2001 Comp., p. 783; E.O. 13637, 78 FR 16129, 3 CFR, 2014 Comp., p. 223; 78 FR 16129.

§ 743.7 [Amended]

5. Section 743.7 is amended by:

a. Redesignating paragraphs (c)(1)(A) through (C) as paragraphs (c)(1)(i) through (iii); and

b. Redesignating paragraphs (c)(2)(A) through (D) as paragraphs (c)(2)(i) through (iv).

PART 774—THE COMMERCE CONTROL LIST

6. The authority citation for part 774 continues to read as follows:

Authority: 50 U.S.C. 4801-4852; 50 U.S.C. 4601 et seq.; 50 U.S.C. 1701 et seq.; 10 U.S.C. 8720; 10 U.S.C. 8730(e); 22 U.S.C. 287c, 22 U.S.C. 3201 et seq.; 22 U.S.C. 6004; 42 U.S.C. 2139a; 15 U.S.C. 1824; 50 U.S.C. 4305; 22 U.S.C. 7201 et seq.; 22 U.S.C. 7210; E.O. 13026, 61 FR 58767, 3 CFR, 1996 Comp., p. 228; E.O. 13222, 66 FR 44025, 3 CFR, 2001 Comp., p. 783.

7. Supplement no. 1 to part 774 is amended by revising ECCNs 2B910 and 3C908 to read as follows:

Supplement No. 1 to Part 774—The Commerce Control List

* * * * *

2B910 Additive manufacturing equipment, designed to produce metal or metal alloy components, having all of the following (see List of Items Controlled), and “specially designed” “components” therefor.

License Requirements

Reason for Control: NS, RS, AT

Control(s) | Country chart (see Supp. No. 1 to part 738)
NS applies to entire entry | Worldwide control. See § 742.4(a)(5) and (b)(10) of the EAR.
RS applies to entire entry | Worldwide control. See § 742.6(a)(10) and (b)(11) of the EAR.
AT applies to entire entry | AT Column 1.

List Based License Exceptions (See Part 740 for a Description of All License Exceptions)

LVS: N/A

GBS: N/A

IEC: Yes, see § 740.2(a)(22) and § 740.24 of the EAR.

Special Conditions for STA

STA: License Exception STA may not be used to ship any item in this ECCN to any of the destinations listed in Country Group A:5 or A:6 (See Supplement No.1 to part 740 of the EAR).

List of Items Controlled

Related Controls: For related “technology” see ECCN 2E910.

Related Definitions: N/A

Items:

a. Having at least one of the following consolidation sources:

a.1. “Laser”;

a.2. Electron beam; or

a.3. Electric arc;

b. Having a controlled process atmosphere of any of the following:

b.1. Inert gas; or

b.2. Vacuum (equal to or less than 100 Pa);

c. Having any of the following `in-process monitoring' equipment in a `co-axial configuration' or `paraxial configuration':

c.1. Imaging camera with a peak response in the wavelength range exceeding 380 nm but not exceeding 14,000 nm;

c.2. Pyrometer designed to measure temperatures greater than 1,273.15K (1,000 °C); or

c.3. Radiometer or spectrometer with a peak response in the wavelength range exceeding 380 nm but not exceeding 3,000 nm; and

d. A closed loop control system designed to modify the consolidation source parameters, build path, or equipment settings during the build cycle in response to feedback from `in-process monitoring' equipment specified in 2B910.c.

Technical Notes:

For the purposes of 2B910:

1. `In-process monitoring', also known as in-situ process monitoring, pertains to the observation and measurement of the additive manufacturing process including electromagnetic, or thermal, emissions from the melt pool.

2. `Co-axial configuration', also known as on-axis or inline configuration, pertains to one or more sensors that are mounted in an optical path shared by the “laser” consolidation source.

3. `Paraxial configuration' pertains to one or more sensors that are physically mounted onto or integrated into the “laser”, electron beam, or electric arc consolidation source component.

4. For both `co-axial configuration' and `paraxial configuration', the field of view of the sensor(s) is fixed to the moving reference frame of the consolidation source and moves in the same scan trajectories of the consolidation source throughout the build process.

* * * * *

3C908 Fluorides, hydrides, chlorides, of silicon or germanium, containing any of the following (See List of Items Controlled).

License Requirements

Reason for Control: NS, RS, AT

Control(s) | Country chart (see Supp. No. 1 to part 738)
NS applies to entire entry | Worldwide control. See § 742.4(a)(5) and (b)(10) of the EAR.
RS applies to entire entry | Worldwide control. See § 742.6(a)(10) and (b)(11) of the EAR.
AT applies to entire entry | AT Column 1.

List Based License Exceptions (See Part 740 for a Description of All License Exceptions)

LVS: N/A

GBS: N/A

IEC: Yes, see § 740.2(a)(22) and § 740.24 of the EAR.

Special Conditions for STA

STA: License Exception STA may not be used to ship any item in this ECCN to any of the destinations listed in Country Group A:5 or A:6 (See Supplement No. 1 to part 740 of the EAR).

List of Items Controlled

Related Controls: See ECCN 3E901 for related technology controls for the “development” or “production” of this ECCN.

Related Definitions: N/A

Items:

a. Silicon having an isotopic impurity less than 0.08% of silicon isotopes other than silicon-28 or silicon-30; or

b. Germanium having an isotopic impurity less than 0.08% of germanium isotopes other than germanium-70, germanium-72, germanium-74, or germanium-76.

* * * * *

Matthew S. Borman,
Principal Deputy Assistant Secretary for Strategic Trade and Economic Security.

[FR Doc. 2024-30723 Filed 12-26-24; 8:45 am]

BILLING CODE 3510-33-P